DEPARTMENT OF COMMERCE

National Oceanic and Atmospheric Administration

50 CFR Part 679

[Docket No. 250321-0045]

RIN 0648-BM77

Fisheries of the Exclusive Economic Zone; Authorizing Hook-and-Line Catcher/Processors To Use Longline Pot Gear in the Bering Sea Greenland Turbot Fishery

AGENCY: National Marine Fisheries Service (NMFS), National Oceanic and Atmospheric Administration (NOAA), Commerce.

ACTION: Final rule.

SUMMARY: NMFS issues regulations authorizing hook-and-line catcher/processors (C/Ps) to use longline pot gear when directed fishing for Greenland turbot in the Bering Sea (BS) subarea of the Bering Sea and Aleutian Islands (BSAI). This action is necessary to improve efficiency, provide economic benefits for the hook-and-line C/P sector, and minimize potential fishery interactions with killer whales. This action promotes the goals and objectives of the Magnuson-Stevens Fishery Conservation and Management Act (Magnuson-Stevens Act), the Fishery Management Plan (FMP) for Groundfish of the Bering Sea and Aleutian Islands Management Area (BSAI FMP), and other applicable laws.

DATES: Effective on April 28, 2025.

ADDRESSES: Electronic copies of the Environmental Assessment and Regulatory Impact Review (RIR) (collectively “the Analysis”) and Finding of No Significant Impact (FONSI) prepared for this action are available on https://www.regulations.gov or from the NMFS Alaska Region website at https://www.fisheries.noaa.gov/region/alaska.

Written comments regarding the burden-hour estimates or other aspects of the collection-of-information requirements contained in this final rule may be submitted to https://www.reginfo.gov/public/do/PRAMain. Find the particular information collection by using the search function and entering either the title of the collection or the Office of Management and Budget OMB Control Number.

FOR FURTHER INFORMATION CONTACT: Andrew Olson, 907-586-7228, andrew.olson@noaa.gov.

SUPPLEMENTARY INFORMATION: This final rule implements regulations authorizing hook-and-line C/Ps to use longline pot gear when directed fishing for Greenland turbot (Reinhardtius hippoglossoides) in the BS subarea of the BSAI. NMFS published a proposed rule in the Federal Register on October 23, 2024 (89 FR 84514) with comments invited through November 22, 2024. All comments submitted on or before November 22, 2024, were considered in the development of this final rule, and a technical change has been made from the proposed rule in this final rule. A summary of the comments and NMFS's responses are provided under the heading “Comments and Responses” below.

The North Pacific Fishery Management Council (Council) and NMFS manage Greenland turbot as a groundfish species under the BSAI FMP. Section 3.4 of BSAI FMP identifies authorized gear types for groundfish fisheries as the following: trawls, hook-and-line, pots, jigs, and other gear as defined in regulations. This section also states that further restrictions on gear that are necessary for conservation and management of fishery resources and which are consistent with the goals and objectives of the FMP are found at 50 CFR part 679.

Background

This final rule is intended to increase operational flexibility for hook-and-line C/Ps participating in the directed fishery for Greenland turbot in the BS subarea by authorizing the use of longline pot gear to mitigate the impacts of whale depredation, which should allow the fishery to resume. At its April 2023 meeting, the Council took final action recommending that NMFS authorize the use of longline pot gear and remove the 9 inch (22.86 cm) pot gear tunnel opening restriction for hook-and-line C/P vessels participating in the directed fishery for Greenland turbot in the BS subarea. The following background sections describe the following: (1) the Greenland turbot directed fishery, (2) authorized gear, (3) whale depredation, and (4) longline pot gear groundfish maximum retainable amounts (MRAs). A more detailed description of the need for this rule and background information on the directed fishery for Greenland turbot in the BS subarea is included in the preamble to the proposed rule (October 23, 2024, 89 FR 84514) and section 3 of the Analysis (see ADDRESSES section).

Greenland Turbot Directed Fishery

The directed fishery for Greenland turbot is managed under the BSAI FMP and is divided into two fishing subareas, the BS and the Aleutian Islands Subarea (AI). Vessels are authorized to fish for Greenland turbot in both subareas from May 1 through December 31, unless NMFS closes the fishery to prevent exceeding the total allowable catch (TAC) prior to the season end date.

The directed fishery for Greenland turbot is prosecuted by the trawl and nontrawl sectors and is mainly concentrated in the BS subarea. Vessels participating in the directed fishery for Greenland turbot in the BS subarea are required to have a groundfish license limitation program (LLP) license with the necessary gear and area endorsements (i.e., nontrawl, trawl, or both gear types and BS subarea) as specified in § 679.4(k)(1)(i).

The majority of participants in the nontrawl sector directed fishery for Greenland turbot are hook-and-line C/P vessels. Hook-and-line C/Ps primarily target Pacific cod (Gadus macrocephalus) in the BSAI, and may also participate in the Greenland turbot and sablefish (Anoplopoma fimbria) directed fisheries and other groundfish fisheries in the Gulf of Alaska (GOA). Hook-and-line C/P vessels, as defined in the regulations at § 679.2, are vessels named on LLP licenses that are noninterim and transferable, or that are interim and subsequently become noninterim and transferable, and that are endorsed for BS subarea or AI subarea C/P fishing activity, C/P Pacific cod, and hook-and-line gear. Most hook-and-line C/P vessels that participate in the directed fishery for Greenland turbot in the BS subarea are members of the Freezer Longline Conservation Cooperative (FLCC). The FLCC is a voluntary cooperative represented by the Freezer Longline Coalition that comprises 36 LLP license holders endorsed for BS or AI subarea hook-and-line C/P fishing for Pacific cod. Since 2010, less than 10 FLCC vessels have participated in the directed fishery for Greenland turbot in the BS subarea.

Authorized Gear

Authorized gear in the nontrawl sector in the directed fishery for Greenland turbot in the BS subarea is limited to longline and pot-and-line gear (e.g., single pot), with longline gear encompassing only hook-and-line gear. Pot-and-line gear, although authorized in the directed fishery for Greenland turbot in the BS subarea, has not been used due to the inefficiency of setting a single pot at the depths and locations where the fishery occurs. Compared to pot-and-line gear, longline pot gear can have improved operational and harvesting efficiency and also has reduced potential for lost gear. However, under existing regulations, longline pot gear use is limited by area and fishery under regulations at § 679.24(b)(1) and is not authorized for use in the directed fishery for Greenland turbot in the BS subarea.

Logbook reporting requirements for vessel operators when deploying longline pot gear in the GOA (but not the BSAI) are required to record the length of the longline pot set, size of pots used, the spacing between pots on a set, and the quantity of pots deployed and lost when using longline pot gear (§ 679.5(c)(3)(v)(G)(2)). Regulations at § 679.24(a) require any vessel fishing with hook-and-line, longline pot, and pot-and-line gear to mark all buoys carried on board or used with the vessel's Federal Fisheries Permit (FFP) number or Alaska Department of Fish and Game (ADF&G) vessel registration number. Buoy markings have minimum text width and height specifications and must be of contrasting coloring so markings are clearly visible above the water line. Vessel operators deploying longline pot gear in the GOA (but not the BSAI) are also required to have an additional hard buoy ball in the buoy cluster attached and marked with the initials “LP” for “Longline Pot” in order to distinguish buoys for longline pot gear from other gear types only when fishing for individual fishing quota (IFQ) (§ 679.24(a)(3)).

All pot gear used to fish for groundfish must be equipped with a biodegradable panel to ensure the release of fish if a pot is lost or becomes unretrievable as defined in paragraph (15)(i) of the definition of “Authorized fishing gear” at § 679.2. Pot gear is also restricted to tunnel openings no larger than 9 inches with an exception for halibut, when fishing for IFQ or Community Development Quota (CDQ) halibut or for IFQ or CDQ sablefish fisheries when halibut retention is required as defined in paragraphs (15)(ii) and (iii) under the definition of “Authorized fishing gear” at § 679.2.

Whale Depredation

Depredation by killer whales (Orcinus orca) has been increasing, preventing hook-and-line C/P vessels from participating in the directed fishery for Greenland turbot in the BS subarea. Killer whale depredation resulted in the decline in participation by hook-and-line C/P vessels in the directed fishery for Greenland turbot in the BS subarea beginning in 2018. This led to the complete absence of fishery participation in 2021, 2022, and 2023, due to operational challenges posed by whale depredation that made fishing uneconomical.

Longline Pot Gear Groundfish MRAs

An MRA is a management tool that allows some retention of groundfish species closed to directed fishing (incidental catch species) when harvesting groundfish species open to directed fishing (basis species). MRAs limit and slow harvest rates of incidentally caught species and help facilitate the management of harvest of a groundfish species within its annual TAC. Once the TAC for a groundfish species has been reached, retention of that species is prohibited, and any further catch must be discarded.

Gear limitations at § 679.24(b)(1) require any person using longline pot gear to treat any catch of groundfish species as a prohibited species that must be discarded at sea unless there is an explicit exception that allows the use of this gear type in the area being fished. Longline pot gear is allowed in the directed fishery for sablefish in the BS subarea and, in order to retain sablefish, a person must have sablefish IFQ as specified at § 679.7(f)(3)(ii). If a vessel is directed fishing for Greenland turbot, retention of sablefish would be allowed only if the vessel holds unfished sablefish IFQ or CDQ, otherwise sablefish may not be retained.

The Final Rule

This final rule revises regulations at 50 CFR 679 to: (1) authorize hook-and-line C/P vessels to use longline pot gear for the directed fishery for Greenland turbot in the BS subarea including associated gear marking and record keeping and reporting requirements, (2) add the directed fishery for Greenland turbot in the BS subarea to the collapsible pot exception, (3) add an exception to the 9 inch (22.86 cm) maximum pot tunnel opening restriction for longline pot gear when participating in the directed fishery for Greenland turbot in the BS subarea; and (4) clarify MRA retention requirements for longline pot gear in this fishery.

Authorize Longline Pot Gear

This final rule revises several regulations governing authorized gear for hook-and-line C/Ps participating in the directed fishery for Greenland turbot in the BS subarea. First, this final rule expands the use of longline pot gear by allowing its use in the directed fishery for Greenland turbot in the BS subarea for hook-and-line C/Ps vessels operating in the BS subarea at § 679.24(b)(1)(v). Hook-and-line C/P vessels intending to use longline pot gear in the directed fishery for Greenland turbot in the BS subarea must have a pot gear endorsement on their Federal Fisheries Permit (FFP). Under existing regulations at § 679.4(b)(3)(iii), a vessel owner or authorized representative may amend an FFP by submitting an Application for FFP to add a pot gear endorsement. Gear marking requirements at § 679.24(a)(3) and recordkeeping and reporting requirements at § 679.5(c)(3)(v)(G)(2)(i) and (ii) are revised to differentiate between hook-and-line and longline pot gear and to improve regulatory consistency between the BSAI and GOA for monitoring and enforcement.

Collapsible Pot Exception

This final rule amends the collapsible pot exception as specified in paragraph (15)(i)(A) of the definition of “Authorized fishing gear” at § 679.2 by adding the directed fishery for Greenland turbot in the BS subarea to the current list of fisheries authorized to place a biodegradable panel anywhere on the mesh of a collapsible pot. Collapsible pot gear must have a biodegradable panel placed anywhere on the mesh using untreated cotton thread no longer than No. 30, which is at least 18 inches (45.72 cm) in length, or may be wrapped on the door of a pot that is at least 18 inches (45.72 cm) in diameter. This change facilitates the effective escapement of fish if a collapsible pot is lost and standardizes gear requirements for pot gear.

Tunnel Opening Exception for Greenland Turbot

This final rule amends the longline pot tunnel opening restriction specified in paragraph (15)(ii) of the definition of “Authorized fishing gear” at § 679.2. The revision allows the use of pots with tunnel openings larger than 9 inches (22.86 cm) when participating in the directed fishery for Greenland turbot in the BS subarea. This change allows pot gear used in this fishery to not be size-selective for smaller Greenland turbot, allowing for larger fish to enter the pots. Additionally, this final rule reorders the existing halibut retention exception for improved clarity and organization for fisheries that have exceptions to the pot tunnel opening restriction.

Longline Pot Gear Groundfish MRAs

This final rule adds regulations at § 679.20(e)(3)(vii) to clarify that vessels using longline pot gear can retain groundfish up to the MRA of other groundfish species unless prohibited or required by other applicable law. These regulations were added due to the removal of the gear restriction that prevented retention of groundfish species by vessels using longline pot gear in the BS subarea when directed fishing for Greenland turbot.

Comments and Responses

NMFS received five comment letters on the proposed rule from members of the public and commercial fishing organizations. One comment was outside the scope of this action and NMFS considered 13 unique relevant comments, which are summarized and responded to below.

Comment 1: This action is long-needed to address the whale depredation issues and encourage prompt implementation to allow the directed fishery for Greenland turbot in the BS subarea to resume.

Response: NMFS acknowledges this comment.

Comment 2: The directed Greenland turbot fishery in the BS subarea has been a historically important source of income for operators and crew, particularly in years of lower abundance for Pacific cod. The largest of these operators is an Alaska Native-owned company whose revenues directly support their Alaska Native members and communities. An expedited return of harvest opportunity for Greenland turbot is critical to support our operators, crew, and communities that have historically relied on this fishery to support their livelihoods.

Response: NMFS acknowledges this comment.

Comment 3: NMFS should ensure that there are compliance measures in place for this action, as well as a plan for how these measures will be monitored given the remote location of fishery.

Response: Vessels subject to this action are required to comply with existing recordkeeping and reporting, vessel monitoring system (VMS), and other compliance monitoring requirements as specified in part 679. Additionally, under regulations at §§ 679.100 and 679.101, the owner and operator of a vessel named on an LLP license with a Pacific cod C/P hook-and-line endorsement for the BS, AI, or both the BS and AI subareas (BSAI)—which includes vessels subject to this final rule—must comply with additional equipment and operational requirements as specified in regulation. Further, these vessels are required to carry observers when they operate and are also subject to at-sea boardings and shoreside inspections by the NOAA Office of Law Enforcement, the U.S. Coast Guard, and other law enforcement partners. Section 6.1 of the Analysis provides additional information on monitoring requirements for hook-and-line C/Ps operating in the BSAI.

Comment 4: The 9 inch (22.86 cm) tunnel opening was decided upon based on the average size of Greenland turbot and will not increase efficiency or profitability, it will only increase the bycatch and harm done to other species.

Response: The 9 inch (22.86 cm) tunnel opening exception for longline pot gear when used by C/Ps participating in the directed fishery for Greenland turbot in the BS subarea removes a potential impediment to selecting for larger and more valuable Greenland turbot in pots. Capture of incidental species will vary by depth, location, and gear type and is monitored by NMFS. NMFS can use inseason management authority to close directed fishing for a species, place a species on prohibited species catch (PSC) status, or close areas if a TAC is reached, an overfishing limit (OFL) is approached, or a PSC limit is reached. In the hook-and-line Greenland turbot fishery, grenadier, skates, sablefish, and Pacific cod are the predominant incidental species caught. Grenadier and skates are less common in pot gear, while Pacific cod will likely continue to be present as incidental catch in the directed Greenland turbot fishery. However, this is expected to remain minimal due to the depth at which Greenland turbot are fished. Golden king crab is the species most likely to interact with longline pot gear, but overall incidental catch is not anticipated to be significant. The increase in the pot tunnel width opening might increase the likelihood of halibut entering a pot, but that effect could be inconsequential if longline pot gear is deployed at a depth where halibut are relatively less available. Section 5.3 of the Analysis provides additional information on non-target catch that might be expected to occur with longline pot gear in a directed fishery for Greenland turbot in the BS subarea.

Comment 5: The collapsible pot exception may reduce bycatch and should include a provision that describes the parameters for the biodegradable panel.

Response: Existing regulations in paragraph (15)(i)(A) of the definition of “Authorized fishing gear” at § 679.2 require collapsible pots to have a biodegradable panel placed anywhere on the mesh of the collapsible pot, which is at least 18 inches (45.72 cm) in length and is made from untreated cotton thread of no larger size than No. 30, or one door on the pot must measure at least 18 inches (45.72 cm) in diameter and be wrapped with untreated cotton thread of no larger size than No. 30. This requirement ensures that if pot gear becomes lost or unretrievable the untreated cotton thread will degrade and break over time allowing the mesh within a pot or door of a pot to open allowing for the release of captured fish.

Comment 6: Including measures to provide flexibility in the design of longline pots that may be deployed in the fishery with the inclusion of collapsible pot gear and an exception to the tunnel opening restriction is appreciated. These measures allow the ability to innovate and optimize longline pot gear design for use in this fishery.

Response: NMFS acknowledges this comment.

Comment 7: Use of longline pot gear will not mitigate whale depredation and will only put killer whales more at risk of injury or death.

Response: Interactions between killer whales and the directed fishery for Greenland turbot in the BS subarea are likely to decrease because it is more difficult for killer whales to feed on fish caught in pots than it is for killer whales to feed on fish caught on hook-and-line gear. This would reduce the opportunity to depredate Greenland turbot and remove the temptation for killer whales to approach fishing gear, thereby reducing the risk of entanglement. Whale depredation is expected to decrease with this action, as participants in the sablefish IFQ fishery have successfully reduced the impact of whale depredation by transitioning from hook-and-line to longline pot gear, which has become the predominant gear type used in this fishery since its authorization for use in the GOA in 2017. This action will increase flexibility for vessel operators to choose when to fish, as opposed to planning around times when whale encounters are perceived to be more frequent and more damaging to catch rates. Section 3.4 of the Analysis provides additional information on killer whale depredation on hook-and-line C/P vessels participating in the directed fishery for Greenland turbot in the BS subarea.

Comment 8: Due to the ineffectiveness of acoustic and other non-lethal deterrents, changes in fishing gear have been proven to be more effective at protecting catches. Increasing cooperation between Federal agencies and stakeholders can improve conservation outcomes for cetaceans, fish, and other species in the BSAI.

Response: NMFS acknowledges this comment.

Comment 9: The longline pot gear MRA would increase bycatch and give further incentives to not be mindful of other species. The MRA should be decreased to decrease the environmental impact of longline fishing.

Response: This action does not modify the BSAI retainable percentages (also known as MRAs) specified in table 11 to part 679 and there are not separate MRAs by gear type. As described in the preamble to the proposed rule, this final rule, and the Analysis, an MRA limits the retention of incidental species that are caught while targeting other species or species groups open to directed fishing. This final rule clarifies regulations for MRAs when using longline pot gear and does not modify MRA limits. MRAs vary by species while Greenland turbot fishing. The directed Greenland turbot fishery in the BS subarea remains constrained by existing regulations concerning the location and timing of the fishery, MRA limits, and all other accountability measures. This action allows gear changes internal to an existing commercial fishery sector allocation within the directed fishery for Greenland turbot in the BS subarea for hook-and-line C/P vessels and is not expected to cause a substantial effect to any other physical or biological resource (see the response to Comment 4).

Comment 10: There should be focus on updating MRAs and TACs for groundfish and all incidental species, as incidental catch is expected to increase with measures intending to increase catch of Greenland turbot.

Response: This final rule does not modify the BSAI retainable percentages specified in table 11 to part 679, the TAC setting process, harvest limits, prohibited species catch, or other accountability measures currently in place. Modifying regulations associated with the TAC setting process and MRA limits is outside the scope of this action (see the response to Comment 9).

Comment 11: This action will allow new entrants to participate in the directed fishery for Greenland turbot in the BS subarea.

Response: This final rule is not intended to provide opportunities for new entrants into the directed fishery for Greenland turbot in the BS subarea. This action allows for hook-and-line C/P vessels, which are historical participants in the fishery, to use longline pot gear in the directed fishery for Greenland turbot in the BS subarea. Participation in the directed fishery for Greenland turbot in the BS subarea by hook-and-line C/Ps has not surpassed nine vessels since 2010 and participation has declined since 2018, with no participation at all in 2021, 2022, and 2023. This action is expected to restore participation to similar levels as in 2010 (i.e., about nine vessels). Any new entrants to the fishery would be limited to the C/P vessels associated with LLP licenses that are part of the hook-and-line C/P sector. Section 3.3 of the Analysis provides additional information on participation and harvest in the directed fishery for Greenland turbot in the BS subarea by hook-and-line C/Ps.

Comment 12: This action is not intended to change regulations applicable to the Amendment 80 program and it is important to maintain the voluntary, non-regulatory agreement between cooperatives involved in the directed fishery for Greenland turbot in the BS subarea.

Response: NMFS acknowledges this comment.

Comment 13: This action seeks to uphold and further the goals of the MSA, by promoting its objectives of rebuilding fish stocks and preventing overfishing, and additionally prioritizing conservation to ensure long-term economic and social benefits of a sustainable seafood supply.

Response: NMFS acknowledges this comment.

Changes From Proposed to Final Rule

One change was made from the proposed rule to this final rule: a technical change at § 679.24(b)(1)(v), which adds a reference to the definition of “hook-and-line catcher/processor” specified at § 679.2 because the term hook-and-line catcher/processor is defined there.

Classification

Pursuant to section 304(b)(3) of the Magnuson-Stevens Act, the NMFS Assistant Administrator (AA) has determined that this final rule is consistent with the BSAI FMP, other provisions of the Magnuson-Stevens Act, and other applicable law.

This final rule has been determined to be not significant for purposes of Executive Order 12866.

This final rule is a deregulatory action under Executive Order 14192.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

Certification Under the Regulatory Flexibility Act

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

Collection-of-Information Requirements

This final rule contains collection-of-information requirements subject to review and approval by the OMB under the Paperwork Reduction Act (PRA). This final rule revises the existing collection-of-information requirements for OMB Control Number 0648-0515 (Alaska Interagency Electronic Reporting System) and revises and extends by 3 years the existing requirements for OMB Control Number 0648-0353 (Alaska Region Gear Identification Requirements). The changes to the collections are described below. The public reporting burden estimates provided below include the time for reviewing instructions, searching existing data sources, gathering and maintaining the data needed, and completing and reviewing the collection of information.

OMB Control Number 0648-0515

The information collection for 0648-0515 is revised because this final rule adds the directed fishery for Greenland turbot in the BS subarea to the recordkeeping and reporting requirements specific to longline pot gear. Vessel operators are required to enter in the logbook the length of a longline pot set, pot size and spacing, number of pots deployed, and the number of pots lost when the set is retrieved. The hook-and-line C/Ps currently use the C/P electronic logbook. This revision does not change the respondents, responses, burden hours, or costs for the C/P electronic logbook. Public reporting burden is estimated to average 15 minutes per individual response for the C/P electronic logbook. The current burden estimate of this logbook incorporates existing variances for existing participants to complete and submit the logbook.

OMB Control Number 0648-0353

NMFS revises and extends for 3 years the existing requirements for OMB Control Number 0648-0353, which contains the gear identification requirements for the groundfish fisheries in the Exclusive Economic Zone off Alaska. The information collection for 0648-0353 is revised because this final rule requires that each end of a set of longline pot gear deployed when participating in the directed fishery for Greenland turbot in the BS subarea have one hard buoy ball attached marked with “LP” to distinguish this gear type from others authorized for this fishery. This revision adds an estimated nine respondents for marking longline pot gear. No changes are made to the estimated burden or cost because the estimates incorporate existing variances for existing participants in the time and cost to mark buoys. Public reporting burden is estimated to average 30 minutes or less per individual response to collect the information and paint it on a buoy. The cost to mark buoys is estimated at $100 per respondent, which covers materials such as paint, paintbrushes, permanent ink applicator, and stencils.

We invite the general public and other Federal agencies to comment on proposed and continuing information collections, which helps us assess the impact of our information collection requirements and minimize the public's reporting burden. Written comments and recommendations for these information collections should be submitted on the following website: https://www.reginfo.gov/public/do/PRAMain. Find the particular information collection by using the search function and entering either the title of the collection or OMB control number 0648-0515 (Alaska Interagency Electronic Reporting System) or OMB Control Number 0648-0353 (Alaska Region Gear Identification Requirements).

Notwithstanding any other provision of law, no person is required to respond to, and no person shall be subject to penalty for failure to comply with, a collection of information subject to the requirements of the PRA, unless that collection of information displays a currently valid OMB control number.

List of Subjects in 50 CFR Part 679

Alaska, Fisheries, Reporting and recordkeeping requirements.

Dated: March 21, 2025.
Samuel D. Rauch III,
Deputy Assistant Administrator for Regulatory Programs, National Marine Fisheries Service.

For the reasons set out in the preamble, NMFS amends 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.2 amend the definition for “Authorized fishing gear” by revising paragraph (15)(i)(A), redesignating paragraph (15)(iii) as paragraph (15)(ii)(A), and adding paragraph (15)(ii)(B) to read as follows:

§ 679.2 Definitions.

* * * * *

Authorized fishing gear * * *

* * * * *

(15) * * *

(i) * * *

(A) Collapsible pot exception. A collapsible pot (e.g., slinky pot) used to fish for halibut IFQ or CDQ, or sablefish IFQ or CDQ, in accordance with paragraph (4) of this definition, or used to directed fish for Greenland turbot in the Bering Sea subarea of the BSAI, is exempt from the biodegradable panel placement requirements described in paragraph (15)(i) of this definition. Instead, a collapsible pot must have either a biodegradable panel placed anywhere on the mesh of the collapsible pot, which is at least 18 inches (45.72 cm) in length and is made from untreated cotton thread of no larger size than No. 30, or one door on the pot must measure at least 18 inches (45.72 cm) in diameter and be wrapped with untreated cotton thread of no larger size than No. 30.

* * * * *

(ii) * * *

(B) Greenland turbot exception. If directed fishing for Greenland turbot in the Bering Sea subarea of the BSAI with longline pots, the tunnel opening requirement under paragraph 15(ii) of this definition does not apply.

* * * * *

3. Revise § 679.5 paragraph (c)(3)(v)(G)(2)(i) and (ii) to read as follows:

§ 679.5 Recordkeeping and reporting (R&R).

* * * * *

(c) * * *

(3) * * *

(v) * * *

(G) * * *

If gear type is . . . | Then . . .
* * * * * * *
(2) * * * | (i) If using longline pot gear in the GOA or while directed fishing for Greenland turbot in the Bering Sea subarea of the BSAI, enter the length of longline pot set to the nearest foot, the size of pot in inches (width by length by height or diameter), and spacing of pots to the nearest foot.
| (ii) If using longline pot gear in the GOA or while directed fishing for Greenland turbot in the Bering Sea subarea of the BSAI, enter the number of pots deployed in each set (see paragraph (c)(3)(vi)(F) of this section) and the number of pots lost when the set is retrieved (optional, but may be required by IPHC regulations see §§ 300.60 through 300.65 of this title).
* * * * * * *

* * * * *

4. Amend § 679.20 by adding new paragraph (e)(3)(vii) to read as follows:

§ 679.20 General limitations.

* * * * *

(e) * * *

(3) * * *

(vii) For vessels using longline pot gear pursuant to § 679.24(b), catch may be retained up to the maximum retainable amount unless retention is prohibited or required by other applicable laws.

* * * * *

5. Amend § 679.24 by revising paragraph (a)(3) and adding new paragraph (b)(1)(v) to read as follows:

§ 679.24 Gear limitations.

* * * * *

(a) * * *

(3) Each end of a set of longline pot gear deployed to fish IFQ sablefish in the GOA, and each end of a set of longline pot gear deployed to fish for Greenland turbot in the Bering Sea subarea of the BSAI, must have one hard buoy ball attached and marked with the capital letters “LP” in accordance with paragraph (a)(2) of this section.

* * * * *

(b) * * *

(1) * * *

(v) While directed fishing for Greenland turbot in the Bering Sea subarea of the BSAI by a hook-and-line catcher/processor as defined in § 679.2.

* * * * *

[FR Doc. 2025-05145 Filed 3-26-25; 8:45 am]

BILLING CODE 3510-22-P